DEPARTMENT OF ENERGY

Federal Energy Regulatory Commission

Combined Notice of Filings

June 3, 2024.

Take notice that the Commission has received the following Natural Gas Pipeline Rate and Refund Report filings:

Filings Instituting Proceedings

Docket Numbers: RP24-805-000.

Applicants: Tennessee Gas Pipeline Company, L.L.C.

Description: § 4(d) Rate Filing: Negotiated Rate and Non-Conforming Agreements Antero Filing to be effective 6/1/2024.

Filed Date: 5/31/24.

Accession Number: 20240531-5257.

Comment Date: 5 p.m. ET 6/12/24.

Docket Numbers: RP24-806-000.

Applicants: Gas Transmission Northwest LLC.

Description: § 4(d) Rate Filing: Negotiated Rate Agreements—NRG Business Marketing to be effective 6/1/2024.

Filed Date: 5/31/24.

Accession Number: 20240531-5259.

Comment Date: 5 p.m. ET 6/12/24.

Docket Numbers: RP24-807-000.

Applicants: Rockies Express Pipeline LLC.

Description: § 4(d) Rate Filing: REX 2024-05-31 Negotiated Rate Agreement Amendments to be effective 6/1/2024.

Filed Date: 5/31/24.

Accession Number: 20240531-5266.

Comment Date: 5 p.m. ET 6/12/24.

Docket Numbers: RP24-808-000.

Applicants: White River Hub, LLC.

Description: Annual Fuel Gas Reimbursement Report of White River Hub, LLC.

Filed Date: 5/31/24.

Accession Number: 20240531-5309.

Comment Date: 5 p.m. ET 6/12/24.

Docket Numbers: RP24-809-000.

Applicants: Sabine Pipe Line LLC.

Description: § 4(d) Rate Filing: Fuel Tracker Filing Normal July 2024 to be effective 7/1/2024.

Filed Date: 5/31/24.

Accession Number: 20240531-5320.

Comment Date: 5 p.m. ET 6/12/24.

Docket Numbers: RP24-810-000.

Applicants: Eastern Shore Natural Gas Company.

Description: § 4(d) Rate Filing: Fuel Retention & Cash Out Adjustment 2024 to be effective 7/1/2024.

Filed Date: 5/31/24.

Accession Number: 20240531-5323.

Comment Date: 5 p.m. ET 6/12/24.

Docket Numbers: RP24-811-000.

Applicants: Natural Gas Pipeline Company of America LLC.

Description: § 4(d) Rate Filing: Negotiated Rate Agreement Filing—Macquarie Energy LLC to be effective 6/1/2024.

Filed Date: 5/31/24.

Accession Number: 20240531-5370.

Comment Date: 5 p.m. ET 6/12/24.

Docket Numbers: RP24-812-000.

Applicants: ANR Pipeline Company.

Description: § 4(d) Rate Filing: ANR—Citadel 140723 Negotiated Rate Agreement to be effective 6/1/2024.

Filed Date: 5/31/24.

Accession Number: 20240531-5401.

Comment Date: 5 p.m. ET 6/12/24.

Docket Numbers: RP24-814-000.

Applicants: Transcontinental Gas Pipe Line Company, LLC.

Description: § 4(d) Rate Filing: Non-Conforming—REA—Interim Firm Service—July 2024 to be effective 7/1/2024.

Filed Date: 5/31/24.

Accession Number: 20240531-5428.

Comment Date: 5 p.m. ET 6/12/24.

Docket Numbers: RP24-815-000.

Applicants: Texas Eastern Transmission, LP.

Description: Compliance filing: TETLP 2024 Stipulation and Agreement Filing to be effective 12/1/9998.

Filed Date: 6/3/24.

Accession Number: 20240603-5002.

Comment Date: 5 p.m. ET 6/17/24.

Docket Numbers: RP24-816-000.

Applicants: Southern Star Central Gas Pipeline, Inc.

Description: § 4(d) Rate Filing: Vol. 2—Amended Non-Conforming Discount Agreements—Empire District Electric to be effective 5/31/2024.

Filed Date: 6/3/24.

Accession Number: 20240603-5007.

Comment Date: 5 p.m. ET 6/17/24.

Docket Numbers: RP24-817-000.

Applicants: Texas Eastern Transmission, LP.

Description: § 4(d) Rate Filing: Negotiated Rates—Releases eff 6-1-24 to be effective 6/1/2024.

Filed Date: 6/3/24.

Accession Number: 20240603-5068.

Comment Date: 5 p.m. ET 6/17/24.

Docket Numbers: RP24-818-000.

Applicants: Rover Pipeline LLC.

Description: § 4(d) Rate Filing: Summary of Negotiated Rate Capacity Release Agreements 6-3-2024 to be effective 6/1/2024.

Filed Date: 6/3/24.

Accession Number: 20240603-5103.

Comment Date: 5 p.m. ET 6/17/24.

Docket Numbers: RP24-819-000.

Applicants: Equitrans, L.P.

Description: § 4(d) Rate Filing: Negotiated Rate Capacity Release Agreements 06012024 to be effective 6/1/2024.

Filed Date: 6/3/24.

Accession Number: 20240603-5119.

Comment Date: 5 p.m. ET 6/17/24.

Docket Numbers: RP24-820-000.

Applicants: NEXUS Gas Transmission, LLC.

Description: § 4(d) Rate Filing: Negotiated Rates—Castleton contract 860576 eff 6-1-24 to be effective 6/1/2024.

Filed Date: 6/3/24.

Accession Number: 20240603-5130.

Comment Date: 5 p.m. ET 6/17/24.

Docket Numbers: RP24-821-000.

Applicants: Cheniere Creole Trail Pipeline, L.P.

Description: § 4(d) Rate Filing: Cheniere Creole Trail Rate Schedule Change Filing to be effective 8/1/2024.

Filed Date: 6/3/24.

Accession Number: 20240603-5134.

Comment Date: 5 p.m. ET 6/17/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP01-382-034.

Applicants: Northern Natural Gas Company.

Description: Northern Natural Gas Company submits Carlton Reimbursement Report.

Filed Date: 6/3/24.

Accession Number: 20240603-5098.

Comment Date: 5 p.m. ET 6/17/24.

Docket Numbers: RP24-757-001.

Applicants: Florida Gas Transmission Company, LLC.

Description: Compliance filing: Revised Rate Schedule FTS-WD-3 re: RP24-757-000 to be effective 7/3/2024.

Filed Date: 6/3/24.

Accession Number: 20240603-5097.

Comment Date: 5 p.m. ET 6/17/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 3, 2024.
Debbie-Anne A. Reese,
Acting Secretary.

[FR Doc. 2024-12549 Filed 6-6-24; 8:45 am]

BILLING CODE 6717-01-P